DEPARTMENT OF AGRICULTURE

Federal Crop Insurance Corporation

7 CFR Parts 407 and 457

RIN 0563-AC86

[Docket ID FCIC-24-0005]

Flax Revenue and Expanded Unit Options for Crop Insurance

AGENCY: Federal Crop Insurance Corporation, USDA.

ACTION: Final rule with request for comments.

SUMMARY: The Federal Crop Insurance Corporation (FCIC) is amending its regulations to allow revenue coverage for flax under the Small Grain Crop Insurance Provisions, to combine written agreement deadlines in the Dry Bean Crop Insurance Provisions to match other insurance policies, to expand the availability of enterprise and optional units for some specialty and perennial crops, and to make clarifications and corrections to the Area Risk Protection Insurance, Basic Provisions; Common Crop Insurance Policy, Basic Provisions; and several Crop Provisions. The changes will be effective for the 2025 and succeeding crop years for crops with a contract change date on or after November 30, 2024. For all other crops, the changes to the policies made in this rule are applicable for the 2026 and succeeding crop years.

DATES: Effective date: This final rule is effective November 30, 2024.

Comment Date: We will consider comments that we receive by the close of business January 27, 2025. FCIC may consider the comments received and may conduct additional rulemaking based on the comments.

ADDRESSES: We invite you to submit comments on this rule. You may submit comments by going through the Federal eRulemaking Portal as follows:

• Federal eRulemaking Portal: Go to https://www.regulations.gov and search for Docket ID FCIC-24-0005. Follow the instructions for submitting comments.

All comments will be posted without change and will be publicly available on www.regulations.gov.

FOR FURTHER INFORMATION CONTACT: Chandra Place; telephone (816) 926-3875; or email chandra.place@usda.gov. Persons with disabilities who require alternative means for communication should contact the USDA Target Center at (202) 720-2600 or (844) 433-2774 (toll-free nationwide).

SUPPLEMENTARY INFORMATION:

Background

FCIC serves America's agricultural producers through effective, market-based risk management tools to strengthen the economic stability of agricultural producers and rural communities. FCIC is committed to increasing the availability and effectiveness of Federal crop insurance as a risk management tool. Approved Insurance Providers (AIPs) sell and service Federal crop insurance policies in every state through a public-private partnership. FCIC reinsures the AIPs who share the risks associated with catastrophic losses due to major weather events. FCIC's vision is to secure the future of agriculture by providing world class risk management tools to rural America.

Federal crop insurance policies typically consist of the Basic Provisions, the Crop Provisions, the Special Provisions, the Commodity Exchange Price Provisions, if applicable, other applicable endorsements or options, the actuarial documents for the insured agricultural commodity, the Catastrophic Risk Protection Endorsement, if applicable, and the applicable regulations published in 7 CFR chapter IV. Throughout this rule, the terms “Crop Provisions,” “Special Provisions,” and “policy” are used as defined in the Common Crop Insurance Policy (CCIP) Basic Provisions in 7 CFR 457.8. Additional information and definitions related to Federal crop insurance policies are in 7 CFR 457.8.

FCIC is amending the following regulations:

• Area Risk Protection Insurance Basic Provisions (7 CFR part 407);

• Common Crop Insurance Policy Basic Provisions (7 CFR 457.8);

• Small grain crop insurance provisions (7 CFR 457.101);

• Prune crop insurance provisions (7 CFR 457.133);

• Green pea crop insurance provisions (7 CFR 457.137);

• Northern potato crop insurance provisions (7 CFR 457.142);

• Central and Southern potato crop insurance provisions (7 CFR 457.147);

• Dry bean crop insurance provisions (7 CFR 457.150);

• Processing sweet corn crop insurance provisions (7 CFR 457.154); and

• Blueberry crop insurance provisions (7 CFR 457.166).

The changes to the crop insurance policies resulting from the amendments in this rule are applicable for the 2025 and succeeding crop years for crops with a contract change date on or after November 30, 2024. For all other crops, the changes to the crop insurance policies resulting from the amendments in this rule are applicable for the 2026 and succeeding crop years.

Flax Revenue Coverage

The Small Grain Crop Provisions previously offered actual production history (APH) coverage to buckwheat and flax; and offered yield protection (YP), revenue protection (RP), and revenue protection with harvest price exclusion (RP-HPE) to barley, oats, rye, and wheat. In this Final Rule, FCIC is expanding revenue protection (RP and RP-HPE) to flax, matching available coverage for barley, oats, rye, and wheat.

The current APH coverage for flax is now converted to YP. For producers who wish to maintain yield coverage, the only difference in coverage is the price guarantee matches the projected price offered for revenue protection (established approximately two weeks prior to the sales closing date), instead of a price election established by the Risk Management Agency (RMA) (established prior to the contract change date).

With the availability of revenue protection for flax, the terms “price election” and “production guarantee” are no longer applicable. Instead, the terms “projected price,” “yield protection guarantee,” and “revenue protection guarantee” are applicable. These changes appear in the following sections of the Small Grain Crop Provisions: 3(a) and (b), 9(c), and 11(b) and (c).

FCIC is revising section 3(a) to remove the references to flax. This provision previously stated that revenue protection is not available for flax or buckwheat. FCIC is removing flax from the list of crops because revenue coverage is now available for flax. FCIC is also revising section 3(b) to add references to flax. These provisions previously stated that revenue protection is available for barley, oats, rye, and wheat. FCIC is adding flax to the list of crops in the two places where the list occurs.

FCIC is revising section 9(c)(2)(i) to remove the reference to flax and revise section 9(c)(2)(ii) to add a reference to flax. When a crop does not have yield or revenue protection available, the price used for determining coverage and any indemnity payments, including replanting payments, is called the price election. For crops for which yield and revenue protection are available, this price is called the projected price. In section 9(c)(2)(i), the provision previously stated that the replanting payment for flax will be determined by using the price election. Under this rule, revenue and yield protection plans of insurance are now available for flax; therefore, the price used is the projected price. FCIC is revising section 9(c)(2)(i) to remove the reference to flax. Section 9(c)(2)(ii) contains provisions applicable to the projected price. FCIC is revising section 9(c)(2)(ii) to include flax, as the projected price will now be used.

For crops for which yield and revenue protection are available, the applicable terms for insurance coverage are yield protection guarantee and revenue protection guarantee. For crops for which yield and revenue protection are not available, the applicable term is production guarantee. FCIC is revising sections 11(b)(1)(i), (ii), and (iii). These sections refer to “yield protection guarantee,” “production guarantee,” and “revenue protection guarantee,” respectively. The references to flax in section 11(b)(1)(ii), which addresses production guarantee, were removed and added to sections 11(b)(1)(i) and (iii), which address yield protection guarantee and revenue protection guarantee.

FCIC is also revising section 11(b)(3)(i) to add a reference to flax and revising section 11(b)(3)(ii) to remove the reference to flax. This change is consistent with the change in section 9(c)(2). Section 11(b)(3)(i) refers to computations using the projected price; section 11(b)(3)(ii) refers to computations using the price election. Flax was removed from section 11(b)(3)(ii) and added to section 11(b)(3)(i) to align with the proper terms for crops for which revenue protection is available.

Section 11(c)(1)(i) explains what is included in appraised production. Previously, flax was contained in a list of crops with buckwheat. Those two crops had similar coverage and used the same crop insurance terminology under the Small Grain Crop Provisions when revenue coverage was not yet available for flax. Now, flax has been removed from the list of crops containing buckwheat and added to the list of crops containing barley, oats, rye, and wheat in two places because allowing revenue coverage for flax makes coverage and crop insurance terminology for that crop consistent with coverage and terminology for barley, oats, rye, and wheat.

Dry Bean Written Agreement Deadlines

FCIC is combining written agreement deadlines to reduce confusion and administrative complexity when a producer requests a written agreement based on multiple criteria. Previously, the written agreement deadline to add an insurable practice or type was the acreage reporting date for new requests and the sales closing date for renewal requests; however, the deadline to add an insurable dry bean type that is not on the actuarial documents was the sales closing date. This created extra paperwork and confusion in instances where a producer wanted to insure a new dry bean type and under a practice that is not currently available in the county. FCIC is combining the deadline for all written agreements to match all other insurance policies with this type of request, so that for the first year of coverage, the deadline is the acreage reporting date and for subsequent years of coverage, the deadline is the sales closing date.

Enterprise and Optional Units

The CCIP Basic Provisions allow enterprise units (EU) by organic farming practice, beginning with the June 30, 2024, contract change date. Unlike major row crops, optional units (OUs) by organic farming practice were not available for most specialty and perennial crops due to language in the Crop Provisions (CP) that superseded the standard OU definition in the CCIP Basic Provisions. In this rule, FCIC is removing limitations on OUs by organic farming practice and making clarifications and edits for consistency with the EU and OU choices provisions in the CCIP Basic Provisions in the following Crop Provisions:

• Green pea crop insurance provisions (7 CFR 457.137); and

• Processing sweet corn crop insurance provisions (7 CFR 457.154).

These changes are responsive to organic growers and the Climate Smart Initiative.

Clarifications and Corrections

FCIC is making the following corrections and clarifications in the Small Grain Crop Provisions (7 CFR 457.101):

• Updating the effective crop year of the Crop Provisions;

• Removing the hyphen in the phrase “initially-planted” in section 2(b) for consistency with the defined phrase in the Crop Provisions;

• Making plain language clarifications in sections 5, 6, and 7;

• Combining the two introductory paragraphs in section 8 into one introductory paragraph;

• Replacing the word “and” with “or” in sections 11(d)(2)(i)(A) and 11(d)(2)(ii). Section 11(d) contains six subparagraphs for deficiencies in quality for the small grain crop. The list of deficiencies in quality varies by crop. In four of the six subparagraphs, the last item in the list is preceded by “or,” while in the other two paragraphs, the last item is preceded by “and.” FCIC is changing the word “and” to “or” for consistency among subparagraphs; and

• Replacing the word “flaxseed” with “flax” in section 11(d)(2)(E). This is the only instance of “flaxseed,” whereas “flax” is used elsewhere.

FCIC is making the following clarifications and corrections in the Green pea crop insurance provision (7 CFR 457.137):

• Updating the effective crop year of the Crop Provisions;

• Removing the paragraph immediately preceding section 1, which refers to the order of priority if a conflict exists among the policy provisions. This same provision is contained in the Basic Provisions. Therefore, the appearance here is duplicative and should be removed. FCIC is clarifying which Basic Provisions apply by replacing the aforementioned paragraph with an introductory sentence preceding the Crop Provisions;

• Removing all instances of the phrase “the provisions of,” “the provisions contained in,” and “contained” where a policy reference follows;

• Revising the definition of “good farming practices” to clarify that the definition in the Crop Provisions expands upon the definition contained in the Basic Provisions because good farming practices include the cultural practices required by the processor contract;

• Revising the definition of “practical to replant” to clarify that the definition in the Crop Provisions does not replace, but rather expands upon the definition in the Basic Provisions, and remove duplicative criteria that are already included in the definition in the Basic Provisions;

• Revising the definition of “processor contract” to replace the phrase “a written agreement” with the phrase “a written contract.” The phrase “written agreement” is a specifically defined term in the Basic Provisions and is not applicable to a processor contract for green peas. This change is necessary to minimize confusion between a written contract and a written agreement, which is a document that alters designated terms of a policy as authorized under these Basic Provisions, the Crop Provisions, or the Special Provisions for the insured crop;

• Removing the phrase “for determining indemnities” from the section heading for section 3. The section heading will now read “Insurance Guarantees, Coverage, Levels, and Prices.” The new section heading is more accurate because insurance guarantees, coverage levels, and prices are not exclusively used for determining indemnities. This change is also for consistency with section headings of the same name in other Crop Provisions;

• Replacing the reference to Special Provisions with actuarial documents in section 3(a), since the price election information referred to in this section is displayed in the actuarial documents;

• Replacing abbreviated months (“Feb” and “Mar”) with the full spelling for the months (“February” and “March”) in the cancellation and termination date table, in section 5;

• Adding a hyphen to the adjective compound “15-day” as it describes a “15-day period” in section 11(c); and

• Updating prices in the settlement of claim examples to be more reflective of current crop prices and potential indemnities, in section 12.

FCIC is making the following clarifications and corrections in the Processing sweet corn crop insurance provisions (7 CFR 457.154):

• Updating the effective crop year of the Crop Provisions;

• Clarifying which Basic Provisions apply by adding an introductory sentence preceding the Crop Provisions; and

• Adding a hyphen to the adjective compound “15-day” as it describes a “15-day period” in section 11(c).

In addition, the Common Crop Insurance Regulations in 7 CFR part 457 were revised by a final rule with request for comments published in the Federal Register on June 27, 2024 (89 FR 53822-53847). Changes were made in that rule to the Area Risk Protection Insurance Basic Provisions (7 CFR part 407), Common Crop Insurance Policy (Common Crop Insurance Policy (CCIP) Basic Provisions (7 CFR 457.8), the General Administrative Regulations in subpart J of part 400 (7 CFR 400.98), and 18 Crop Provisions. In reviewing the changes made, FCIC found some incorrect references, missing words, missing parentheses, incorrect paragraph designations, and an extra word. This rule will also make these corrections in the following provisions:

• Area Risk Protection Insurance Basic Provisions (7 CFR part 407);

• Common Crop Insurance Policy Basic Provisions (7 CFR 457.8);

• Prune crop insurance provisions (7 CFR 457.133);

• Northern potato crop insurance provisions (7 CFR 457.142);

• Central and Southern potato crop insurance provisions (7 CFR 457.147); and

• Blueberry crop insurance provisions (7 CFR 457.166).

Effective Date, Notice and Comment, and Exemptions

The Administrative Procedure Act (APA, 5 U.S.C. 553) provides that the notice and comment and 30-day delay in the effective date provisions do not apply when the rule involves specified actions, including matters relating to contracts. This rule governs contracts for crop insurance policies and therefore falls within that exemption.

This rule is exempt from the regulatory analysis requirements of the Regulatory Flexibility Act (5 U.S.C. 601-612), as amended by the Small Business Regulatory Enforcement Fairness Act of 1996.

Subtitle E of the Small Business Regulatory Enforcement Fairness Act of 1996, (also known as the Congressional Review Act) requires a delay of the effective date of 60 days after publication to allow for Congressional review. The Office of Information and Regulatory Affairs has determined that this rule does not meet the criteria in 5 U.S.C. 804(2). Therefore, this final rule is effective on November 30, 2024. Although not required by APA or any other law, FCIC has chosen to request comments on this rule.

Executive Orders 12866, 13563, and 14094

Executive Order 12866, “Regulatory Planning and Review,” was amended by and Executive Order 13563, “Improving Regulation and Regulatory Review,” and Executive Order 14094, “Modernizing Regulatory Review.” Executive Orders 12866 and 13563 direct agencies to assess all costs and benefits of available regulatory alternatives and, if regulation is necessary, to select regulatory approaches that maximize net benefits (including potential economic, environmental, public health and safety effects, distributive impacts, and equity). Executive Order 13563 emphasized the importance of quantifying both costs and benefits, of reducing costs, of harmonizing rules, and of promoting flexibility. The requirements in Executive Orders 12866 and 13563 for the analysis of costs and benefits apply to rules that are determined to be significant.

The Office of Management and Budget (OMB) has designated this rule as not significant under Executive Order 12866, “Regulatory Planning and Review,” and therefore, OMB has not reviewed this rule and analysis of the costs and benefits is not required under either Executive Order 12866 or 13563.

Clarity of the Regulation

Executive Order 12866, as supplemented by Executive Order 13563, requires each agency to write all rules in plain language. Executive Order 14094 requires Federal agencies to increase and improve public participation in the regulatory process. The Executive order's objective is to improve public trust in the regulatory process by reducing the risk or appearance of unequal or unfair influence in regulatory development. Under Executive Order 14904, agencies must, to the extent they can under law, seek out, assist with, and include your input in the regulatory process. We welcome comments from public (State, local, Tribal, and territorial) and private sector regulated entities; members of underserved communities; consumers; workers and labor organizations; businesses; and program beneficiaries, among others. In addition to your substantive comments on this rule, we invite your comments on how to make the rule easier to understand. For example:

• Are the requirements in the rule clearly stated? Are the scope and intent of the rule clear?

• Does the rule contain technical language or jargon that is not clear?

• Is the material logically organized?

• Would changing the grouping or order of sections or adding headings make the rule easier to understand?

• Could we improve clarity by adding tables, lists, or diagrams?

• Would more, but shorter, sections be better? Are there specific sections that are too long or confusing?

• What else could we do to make the rule easier to understand?

Environmental Review

The environmental impacts of this final rule have been considered in a manner consistent with the provisions of the National Environmental Policy Act (NEPA, 42 U.S.C. 4321-4347), the regulations of the Council on Environmental Quality (40 CFR parts 1500-1508), and because USDA will be making the payments to producers, the USDA regulation for compliance with NEPA (7 CFR part 1b). As specified in 7 CFR 1b.4(b)(4), FCIC is categorically excluded from the preparation of an Environmental Analysis or Environmental Impact Statement unless the FCIC Manager (agency head) determines that an action may have a significant environmental effect. The FCIC Manager has determined this rule will not have a significant environmental effect. Therefore, FCIC will not prepare an environmental assessment or environmental impact statement for this action and this rule serves as documentation of the programmatic environmental compliance decision.

Executive Order 12988

This rule has been reviewed under Executive Order 12988, “Civil Justice Reform.” This rule will not preempt State or local laws, regulations, or policies unless they represent an irreconcilable conflict with this rule. Before any judicial actions may be brought regarding the provisions of this rule, the administrative appeal provisions of 7 CFR part 11 are to be exhausted. For good farming practice determinations, the administrative appeal provisions under 7 CFR part 11 do not apply.

Executive Order 13175

This rule has been reviewed in accordance with the requirements of Executive Order 13175, “Consultation and Coordination with Indian Tribal Governments.” Executive Order 13175 requires Federal agencies to consult and coordinate with Tribes on a government-to-government basis on policies that have Tribal implications, including regulations, legislative comments or proposed legislation, and other policy statements or actions that have substantial direct effects on one or more Indian Tribes, on the relationship between the Federal Government and Indian Tribes or on the distribution of power and responsibilities between the Federal Government and Indian Tribes.

RMA has assessed the impact of this rule on Indian Tribes and determined that this rule does not, to our knowledge, have Tribal implications that require Tribal consultation under E.O. 13175. The regulation changes do not have Tribal implications that preempt Tribal law and are not expected have a substantial direct effect on one or more Indian Tribes. If a Tribe requests consultation, RMA will work with the USDA Office of Tribal Relations to ensure meaningful consultation is provided where changes, additions and modifications identified in this rule are not expressly mandated by Congress.

The Unfunded Mandates Reform Act of 1995

Title II of the Unfunded Mandates Reform Act of 1995 (UMRA, Pub. L. 104-4) requires Federal agencies to assess the effects of their regulatory actions of State, local, and Tribal governments or the private sector. Agencies generally must prepare a written statement, including cost benefits analysis, for proposed and final rules with Federal mandates that may result in expenditures of $100 million or more in any 1 year for State, local or Tribal governments, in the aggregate, or to the private sector. UMRA generally requires agencies to consider alternatives and adopt the more cost effective or least burdensome alternative that achieves the objectives of the rule. This rule contains no Federal mandates, as defined in Title II of UMRA, for State, local, and Tribal governments or the private sector. Therefore, this rule is not subject to the requirements of sections 202 and 205 of UMRA.

Federal Assistance Program

The title and number of the Assistance Listing, to which this rule applies is No. 10.450—Crop Insurance.

Paperwork Reduction Act of 1995

In accordance with the provisions of the Paperwork Reduction Act of 1995 (44 U.S.C. chapter 35, subchapter I), the rule does not change the information collection approved by OMB under control numbers 0563-0053 and 0563-0083.

USDA Non-Discrimination Policy

In accordance with Federal civil rights law and USDA civil rights regulations and policies, USDA, its Agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Individuals who require alternative means of communication for program information (for example, braille, large print, audiotape, American Sign Language, etc.) should contact the responsible Agency or USDA TARGET Center at (202) 720-2600 (voice and text telephone (TTY)) or dial 711 for Telecommunications Relay Service (both voice and text telephone users can initiate this call from any telephone). Additionally, program information may be made available in languages other than English. To file a program discrimination complaint, complete the USDA Program Discrimination Complaint Form, AD-3027, found online at https://www.usda.gov/oascr/how-to-file-a-program-discrimination-complaint and at any USDA office or write a letter addressed to USDA and provide in the letter all the information requested in the form. To request a copy of the complaint form, call (866) 632-9992. Submit your completed form or letter to USDA by: (1) mail to: U.S. Department of Agriculture, Office of the Assistant Secretary for Civil Rights, 1400 Independence Avenue SW, Washington, DC 20250-9410; (2) fax: (202) 690-7442; or (3) email: program.intake@usda.gov.

USDA is an equal opportunity provider, employer, and lender.

List of Subjects

7 CFR Part 407

Acreage allotments, Administrative practice and procedure, Barley, Corn, Cotton, Crop insurance, Peanuts, Reporting and recordkeeping requirements, Sorghum, Soybeans, Wheat.

7 CFR Part 457

Acreage allotments, Crop insurance, Reporting and recordkeeping requirements.

Final Rule

For the reasons discussed above, FCIC amends 7 CFR parts 407 and 457, effective for the 2025 and succeeding crop years for crops with a contract change date on or after November 30, 2024, and for the 2026 and succeeding crop years for all other crops, as follows:

PART 407—AREA RISK PROTECTION INSURANCE REGULATIONS

1. The authority citation for part 407 continues to read as follows:

Authority: 7 U.S.C. 1506(l) and 1506(o).

2. Amend § 407.9 as follows:

a. In section 5, in paragraph (c)(3), remove the words “stated in section 5(c)” and add “stated in section 5(c)(2)” in their place; and

b. In section 7, in paragraph (d)(2), remove “;” at the end of the paragraph and add in its place “; and”.

PART 457—COMMON CROP INSURANCE REGULATIONS

3. The authority citation for 7 CFR part 457 continues to read as follows:

Authority: 7 U.S.C. 1506(l), 1506(o).

4. In § 457.8, in the “Common Crop Insurance Policy”, section 3, in paragraph (i) introductory text, remove the words “not applicable” and add “(not applicable” in their place.

5. Amend § 457.101 as follows:

a. Revise the introductory text and the undesignated text at the beginning of the “Small Grain Crop Provisions”;

b. In section 2, in paragraph (b) remove the phrase “initially-planted” and add the phrase “initially planted” in its place;

c. In section 3, revise paragraphs (a), (b) introductory text, and (b)(1);

d. In section 5, in the table, remove the word “thereof” wherever it appears and add the words “of the named counties” in its place;

e. In section 6 in paragraph (c)(2), remove the phrase “set forth herein” and add the phrase “described in these Crop Provisions” in its place;

f. In section 7 in paragraph (a) introductory text, remove the word “thereof” and add the words “of a unit” in its place;

g. In section 9:

i. In paragraph (c)(2)(i), remove the phrase “flax or”; and

ii. In paragraph (c)(2)(ii), add the phrase “, flax” after the word “barley”;

h. In section 11:

i. In paragraph (b)(1)(i), add the phrase “, flax” after the word “barley”;

ii. In paragraph (b)(1)(ii), remove the phrase “flax or”;

iii. In paragraph (b)(1)(iii), add the phrase “, flax” after the word “barley”;

iv. In paragraph (b)(3)(i), add the phrase “, flax” after the word “barley”;

v. In paragraph (b)(3)(ii), remove the phrase “flax or”;

vi. Revise paragraph (c)(1)(i);

vii. In paragraph (d)(2)(i)(A), remove the phrase “smutty, and ergoty” and add the phrase “smutty, or ergoty” in its place;

viii. In paragraph (d)(2)(i)(E), remove the word “Flaxseed” and add the word “Flax” in its place; and

ix. In paragraph (d)(2)(ii), remove the phrase “smutty, and ergoty” and add the phrase “smutty, or ergoty” in its place.

The revisions and additions read as follows:

§ 457.101 Small grain crop insurance provisions.

The Small Grain Crop Insurance Provisions for the 2025 and succeeding crop years for crops with a contract change date on or after November 30, 2024, and for the 2026 and succeeding crop years with a contract change date prior to November 30, 2024, are as follows:

United States Department of Agriculture

Federal Crop Insurance Corporation

Small Grain Crop Provisions

In return for your payment of premium and administrative fee for coverage, these Small Grains Crop Provisions and corresponding Commodity Exchange Price Provisions will be attached to and made part of the Common Crop Insurance Policy, Basic Provisions (Basic Provisions) subject to the terms and conditions in your policy.

* * * * *

3. Insurance Guarantees, Coverage Levels, and Prices

(a) Revenue protection is not available for your buckwheat. Therefore, if you elect to insure such crop by the sales closing date, it will only be protected against a loss in yield.

(b) Revenue protection is available for barley, flax, oats, rye, and wheat. Therefore, if you elect to insure your barley, flax, oats, rye, or wheat:

(1) You must elect to insure your barley, flax, oats, rye, or wheat with either revenue protection or yield protection by the sales closing date; and

* * * * *

11. Settlement of Claim

* * * * *

(c) * * *

(1) * * *

(i) For buckwheat, and for barley, flax, oats, rye, or wheat under yield protection, not less than the production guarantee (per acre), and for barley, flax, oats, rye, or wheat under revenue protection, not less than the amount of production that when multiplied by the harvest price equals the revenue protection guarantee (per acre) for acreage:

* * * * *

6. Amend § 457.133 as follows:

a. In the introductory text, remove the year “2025” and add the year “2026” in its place;

b. In section 1, revise the definition of “Standard prunes”.

The revisions read as follows:

§ 457.133 Prune crop insurance provisions.

* * * * *

Definitions

* * * * *

Standard prunes. Any natural condition prunes:

(1) That grade “C,” “U.S. Standard,” or better in accordance with the United States Standards for Grades of Dried Prunes; or

(2) That meet or exceed the grade standards in effect for the crop year if a Marketing Order for California Prunes has been established for the area in which the insured crop is grown.

* * * * *

7. Amend § 457.137 as follows:

a. Revise the introductory text and the undesignated text at the beginning of the “Green Pea Crop Provisions”;

b. In section 1:

i. Revise the definition of “Good farming practices”;

ii. In the definition of “Planted acreage,” remove the word “contained”;

iii. Revise the definitions of “Practical to replant” and “Price election”; and

iv. In the definition of “Processor contract,” remove the phrase “A written agreement” and add the phrase “A written contract” in its place;

c. In section 2:

i. In paragraph (a)(1), remove the word “contained”; and

ii. Revise paragraphs (a)(2) and (b);

d. In section 3:

i. Revise the section heading;

ii. In paragraph (a), remove the phrase “Special Provisions” and add the phrase “actuarial documents” in its place;

e. In section 5, in the table, replace the words “Feb.” and “Mar.” and add the words “February” and “March”, respectively, in their place;

f. In section 6, remove the phrase “the provisions of”;

g. In section 8, introductory paragraph, remove the phrase “the provisions of”;

h. In section 9, introductory paragraph, remove the phrase “the provisions contained in”;

i. In section 10:

i. In the introductory paragraph, remove the phrase “the provisions of”;

ii. In paragraph (a)(4), remove the word “contained”; and

iii. In paragraph (a)(8), remove the word “contained”;

j. In section 11, in paragraph (c), remove the phrase “15 day period” and add the phrase “15-day period” in its place; and

k. In section 12, revise paragraph (b)(7).

The revisions and additions read as follows:

§ 7 CFR 457.137 Green pea crop insurance provisions.

The Green Pea Crop Insurance Provisions for the 2025 and succeeding crop years are as follows:

United States Department of Agriculture

Federal Crop Insurance Corporation.

Green Pea Crop Provisions

In return for your payment of premium and administrative fee for the coverage, these Green Pea Crop Provisions will be attached to and made part of the Common Crop Insurance Policy, Basic Provisions (Basic Provisions) subject to the terms and conditions in your policy.

* * * * *

1. Definitions

* * * * *

Good farming practices. In addition to the definition of “good farming practices” in the Basic Provisions, the cultural practices required by the processor contract.

* * * * *

Practical to replant. In addition to the definition of “practical to replant” in the Basic Provisions, practical to replant is defined as our determination, after loss or damage to the insured crop, based on factors including, but not limited to, moisture availability, and marketing window, that replanting the insured crop will allow the crop to attain maturity prior to the calendar date for the end of the insurance period. It will not be considered practical to replant unless the replanted acreage can produce at least 75 percent of the approved yield, and the processor agrees in writing that it will accept the production from the replanted acreage.

Price election. In lieu of the definition of “price election” in the Basic Provisions, price election is defined as the price per pound stated in the processor contract (contracted price) for the tenderometer reading, grade factor, or sieve size contained in the Special Provisions.

* * * * *

Unit Division

(a) * * *

(2) Optional units may be established by:

(i) Organic and non-organic farming practices as provided in Section 34(c)(3) of the Basic Provisions; or

(ii) Shell type and pod type for green peas if the shell type acreage does not continue into the pod type acreage in the same rows or planting pattern.

(b) For any processor contract that stipulates the number of acres to be planted, in addition to or instead of, establishing optional units as provided in Section 34(c) of the Basic Provisions, optional units may be established by the shell type and pod type for green peas if the shell type acreage does not continue into the pod type acreage in the same rows or planting pattern.

Insurance Guarantees, Coverage Levels, and Prices

* * * * *

12. Settlement of Claim

* * * * *

(b) * * *

(7) Multiplying the result of section 12(b)(6) by your share.

For example:

You have a 100 percent share in 100 acres of shell type green peas in the unit, with a guarantee of 4,000 pounds per acre and a price election of $0.15 per pound. You are only able to harvest 200,000 pounds. Your indemnity would be calculated as follows:

(1) 100 acres × 4,000 pounds = 400,000 pounds guarantee;

(2) 400,000 pounds × $0.15 price election = $60,000.00 value of guarantee;

(3) Not applicable;

(4) 200,000 pounds × $0.15 price election = $30,000.00 value of production to count;

(5) Not applicable;

(6) $60,000.00−$30,000.00 = $30,000.00 loss; and

(7) $30,000.00 × 100 percent = $30,000.00 indemnity payment.

You also have a 100 percent share in 100 acres of pod type green peas in the same unit, with a guarantee of 5,000 pounds per acre and a price election of $0.15 per pound. You are only able to harvest 450,000 pounds. Your total indemnity for both shell type and pod type green peas would be calculated as follows:

(1) 100 acres × 4,000 pounds = 400,000 pounds guarantee for the shell type, and 100 acres × 5,000 pounds = 500,000 pounds guarantee for the pod type;

(2) 400,000 pounds guarantee × $0.15 price election = $60,000.00 value of guarantee for the shell type, and 500,000 pounds guarantee × $0.15 price election = $75,000.00 value of guarantee for the pod type;

(3) $60,000.00 + $75,000.00 = $135,000.00 total value of guarantee;

(4) 200,000 pounds × $0.15 price election = $30,000.00 value of production to count for the shell type; and 450,000 pounds × $0.15 = $67,500.00 value of production to count for the pod type;

(5) $30,000.00 + $67,500.00 = $97,500.00 total value of production to count;

(6) $135,000.00—$97,500.00 = $37,500.00 loss; and

(7) $37,500.00 loss × 100 percent = $37,500.00 indemnity payment.

* * * * *

8. Amend § 457.142 as follows:

a. Revise the introductory text and the undesignated text at the beginning of the “Northern Potato Crop Provisions”;

b. In section 11, revise paragraph (e)(2).

The revisions read as follows:

§ 457.142 Northern potato crop insurance provisions.

The Northern Potato Crop Insurance Provisions for the 2025 and succeeding crop years in counties with a contract change date of November 30, and for the 2026 and succeeding crop years in counties with a contract change date of April 30, June 30, and September 30, are as follows:

United States Department of Agriculture

Federal Crop Insurance Corporation

Northern Potato Crop Provisions

In return for your payment of premium and administrative fee for the coverage, these Northern Potato Crop Provisions will be attached to and made part of the Common Crop Insurance Policy, Basic Provisions (Basic Provisions) subject to the terms and conditions in your policy.

These provisions will be applicable in: Alaska; Humboldt, Modoc, and Siskiyou Counties, California; Colorado; Connecticut; Idaho; Indiana; Iowa; Kansas; Maine; Massachusetts; Michigan; Minnesota; Montana; Nebraska; Nevada; San Juan County, New Mexico; New York; North Dakota; Ohio; Oregon; Pennsylvania; Rhode Island; South Dakota; Utah; Washington; Wisconsin; and Wyoming; and any other states or counties if allowed by the Special Provisions.

* * * * *

11. Settlement of Claim

* * * * *

(e) * * *

(2) A grade inspection is completed no later than 21 days after the end of insurance period (if the Northern Potato Storage Coverage Endorsement is applicable, samples must be obtained within 60 days after the end of insurance period and quality (grade) determinations must be completed within 21 days of sampling; and

* * * * *

9. Amend § 457.147 as follows:

a. Revise the introductory text and the undesignated text at the beginning of the “Central and Southern Potato Crop Provisions”;

b. In section 12, revise the example after paragraph (b)(7) and before paragraph (c).

The revision reads as follows:

§ 457.147 Central and Southern potato crop insurance provisions.

The Central and Southern Potato Crop Insurance Provisions for the 2025 and succeeding crop years in counties with a contract change date of November 30, and for the 2026 and succeeding crop years in counties with a contract change date of April 30, June 30, and September 30, are as follows:

United States Department of Agriculture

Federal Crop Insurance Corporation

Central and Southern Potato Crop Provisions

In return for your payment of premium and administrative fee for the coverage, these Central and Southern Potato Crop Provisions will be attached to and made part of the Common Crop Insurance Policy, Basic Provisions (Basic Provisions) subject to the terms and conditions in your policy.

These provisions will be applicable in Alabama; Arizona; all California counties except Humboldt, Modoc, and Siskiyou; Delaware; Florida; Georgia; Maryland; Missouri; New Jersey; all New Mexico counties except San Juan; North Carolina; Oklahoma; Texas; and Virginia; and other states or counties if allowed by the Special Provisions.

* * * * *

12. Settlement of Claim

* * * * *

(b) * * *

(7) * * *

For example: You have a 100 percent share in 100 harvested acres of potatoes in the unit, with a guarantee of 150 hundredweight per acre and a price election of $4.00 per hundredweight. You are only able to harvest 10,000 hundredweight. Your indemnity would be calculated as follows:

(1) 100 acres × 150 hundredweight = 15,000 hundredweight guarantee;

(2) 15,000 hundredweight × $4.00 price election = $60,000.00 value of guarantee;

(4) 10,000 hundredweight × $4.00 price election = $40,000.00 value of production to count;

(6) $60,000.00−$40,000.00 = $20,000.00 loss; and

(7) $20,000.00 × 100 percent = $20,000.00 indemnity payment.

You also have a 100 percent share in 100 unharvested acres of potatoes in the same unit, with a guarantee of 150 hundredweight per acre and a price election of $3.60 per hundredweight. (The price election for unharvested acreage is 90.0 percent of your elected price election ($4.00 × 0.90 = $3.60.)) This unharvested acreage was appraised at 35 hundredweight per acre for a total of 3,500 hundredweight as production to count. Your total indemnity for the harvested and unharvested acreage would be calculated as follows:

(1) 100 acres × 150 hundredweight = 15,000 hundredweight guarantee for the harvested acreage, and 100 acres × 150 hundredweight = 15,000 hundredweight guarantee for the unharvested acreage;

(2) 15,000 hundredweight guarantee × $4.00 price election = $60,000.00 value of guarantee for the harvested acreage, and 15,000 hundredweight guarantee × $3.60 price election = $54,000.00 value of guarantee for the unharvested acreage;

(3) $60,000.00 + $54,000.00 = $114,000.00 total value of guarantee;

(4) 10,000 hundredweight × $4.00 price election = $40,000.00 value of production to count for the harvested acreage, and 3,500 hundredweight × $3.60 = $12,600.00 value of production to count for the unharvested acreage;

(5) $40,000.00 + $12,600.00 = $52,600.00 total value of production to count;

(6) $114,000.00−$52,600.00 = $61,400.00 loss; and

(7) $61,400.00 loss × 100 percent = $61,400.00 indemnity payment.

* * * * *

10. In § 457.150, in the “Dry bean crop insurance provisions”, in section 7, revise paragraph (c) to read as follows:

§ 457.150 Dry bean crop insurance provisions.

* * * * *

7. Insured Crop

* * * * *

(c) In addition to the types of dry beans designated in the Special Provisions, we will insure other types by written agreement if:

(1) The type you intend to plant has been demonstrated to be adapted to the area. Evidence of adaptability must include:

(i) Results of test plots for two years and recommendations by a university or seed company; or

(ii) Two years of production reports that indicate your experience producing the type in your production area;

(2) You submit your production reports and prices received, or the test plot results, and evidence of market potential, including the price buyers are willing to pay for the type; and

(3) Both parties (you and us) enter into a written agreement allowing insurance on the type in accordance with section 18 of the Basic Provisions.

* * * * *

11. Amend § 457.154 as follows:

a. Revise the introductory text and the undesignated text at the beginning of the “Processing Sweet Corn Crop Provisions”;

b. In section 2, revise paragraphs (a)(2) and (b); and

c. In section 11, in paragraph (c), remove the phrase “15 day period” and add the phrase “15-day period” in its place.

The revisions read as follows:

§ 457.154 Processing sweet corn crop insurance provisions.

The Processing Sweet Corn Crop Insurance Provisions for the 2025 and succeeding crop years are as follows:

United States Department of Agriculture

Federal Crop Insurance Corporation.

Processing Sweet Corn Crop Provisions

In return for your payment of premium and administrative fee for the coverage, these Processing Sweet Corn Crop Provisions will be attached to and made part of the Common Crop Insurance Policy, Basic Provisions (Basic Provisions) subject to the terms and conditions in your policy.

* * * * *

2. Unit Division

(a) * * *

(2) Section 34(c) of the Basic Provisions that allows optional units is not applicable.

(b) For processor contracts that stipulate the number of acres to be planted, optional units as provided in section 34(c) of the Basic Provisions will apply.

* * * * *

12. Amend § 457.166 as follows:

a. In the introductory text, remove the year “2025” and add the year “2026” in its place;

b. In section 1, revise the definition of “prune”.

The revision reads as follows:

§ 457.166 Blueberry crop insurance provisions.

* * * * *

1. Definitions

* * * * *

Prune. A cultural practice performed to increase blueberry production as follows:

(1) For lowbush blueberries, a process by which the acreage is either burned or mowed; and

(2) For all other blueberries, a process by which parts of the bush are cut off or the bush is cut back.

* * * * *

Marcia Bunger,
Manager, Federal Crop Insurance Corporation.

[FR Doc. 2024-27225 Filed 11-26-24; 8:45 am]

BILLING CODE 3410-08-P